DEPARTMENT OF EDUCATION

Notice of Guidance Portal

AGENCY: Office of the General Counsel, Department of Education.

ACTION: Notice.

SUMMARY: Through this notice, the Department announces the existence and location of its guidance portal. This guidance portal is meant to make it easy for the public and our stakeholders to locate the Department's guidance documents through the links within the guidance portal.

FOR FURTHER INFORMATION CONTACT: Levon Schlichter, U.S. Department of Education, Office of the General Counsel, 400 Maryland Ave. SW, room 6E235, Washington, DC 20202. Telephone: (202) 453-6387. Email: Levon.Schlichter@ed.gov.

If you use a telecommunications device for the deaf (TDD) or a text telephone (TTY), call the Federal Relay Service, toll free, at 1-800-877-8339.

SUPPLEMENTARY INFORMATION: Pursuant to Executive Order 13891 and the Office of Management and Budget's implementing guidance at https://www.whitehouse.gov/wp-content/uploads/2019/10/M-20-02-Guidance-Memo.pdf, the Department publishes this notice of the existence of its guidance portal at https://www2.ed.gov/policy/gen/guid/types-of-guidance-documents.html. The Department initially developed this guidance portal in July 2019 to implement recommendation number two from the House Oversight and Government Reform Committee's Majority Staff Report recommendation.¹ As mentioned within the guidance portal, guidance documents lack the force and effect of law, except as authorized by law or as incorporated into a contract. In accordance with E.O. 13891, the Department will not retain in effect any guidance document without including it in this guidance portal, nor shall the Department, in the future, issue a guidance document without including it in this guidance portal.

¹ https://republicans-oversight.house.gov/report/committee-report-scrutinizes-federal-regulatory-guidance-practices/.

Accessible Format: Individuals with disabilities can obtain this document in an accessible format (e.g., Braille, large print, audiotape, or compact disc) on request to the person listed under FOR FURTHER INFORMATION CONTACT.

Electronic Access to This Document: The official version of this document is the document published in the Federal Register. You may access the official edition of the Federal Register and the Code of Federal Regulations at www.govinfo.gov. At this site you can view this document, as well as all other documents of this Department published in the Federal Register, in text or Portable Document Format (PDF). To use PDF you must have Adobe Acrobat Reader, which is available free at the site.

You may also access documents of the Department published in the Federal Register by using the article search feature at www.federalregister.gov. Specifically, through the advanced search feature at this site, you can limit your search to documents published by the Department.

Reed D. Rubinstein,
Principal Deputy General Counsel. delegated the Authority and Duties of the General Counsel.

[FR Doc. 2020-03811 Filed 2-25-20; 8:45 am]

BILLING CODE 4000-01-P